FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 27, 2018.

A. Federal Reserve Bank of Minneapolis (Mark A. Rauzi, Vice President), 90 Hennepin Avenue, Minneapolis, Minnesota 55480-0291:

1. Patricia Fishback, Brookings, South Dakota, individually and as trustee of the Robert E. Fishback GRAT A Trust, Brookings, South Dakota; to retain voting shares of Fishback Financial Corporation, Brookings, South Dakota (FFC BHC) and thereby indirectly retain shares of First Bank & Trust, Brookings, South Dakota (FBT Brookings) and First Bank & Trust, Sioux Falls, South Dakota (FBT Sioux Falls). In addition, Mary Beth Fishback, Brookings, South Dakota and eighteen (18) trusts (with Mary Beth Fishback; Robert Fishback, Thomas Fishback, and Van Fishback, all of Brookings, South Dakota; and Ann Rivlin of Madison, Wisconsin each as trustee of one or more of these trusts), for retroactive approval to join the Fishback family shareholder group.

B. Federal Reserve Bank of Kansas City (Dennis Denney, Assistant Vice President), 1 Memorial Drive, Kansas City, Missouri 64198-0001:

1. Kevin Page, Trustee of the Kevin Page Trust, Fort Worth, Texas, Dana Page, Co-Trustee of the Dana Page Trust, Austin, Texas, Meghan Anderson Smith, Co-Trustee of the Meghan Anderson Smith Trust, Fremont, Nebraska, Whitney Anderson, Co-Trustee of the Whitney Anderson Trust, Coppell, Texas, Eric Jones, Trustee of the Eric Jones Trust, Blue Lake, California, and Christopher Marious Jones, Co-Trustee of the Christopher Marious Jones Trust, Los Angeles, California; to retain shares of Page Bancshares, Inc., Liberty, Missouri, and thereby retain shares of Pony Express Bank, Braymer, Missouri.

Board of Governors of the Federal Reserve System, August 6, 2018.
Yao-Chin Chao,
Assistant Secretary of the Board.

[FR Doc. 2018-17094 Filed 8-8-18; 8:45 am]

BILLING CODE P